DEPARTMENT OF TRANSPORTATION

National Highway Traffic Safety Administration

[Docket No. NHTSA 2001-10623]

Federal Motor Vehicle Safety Standards; Denial of Petition for Rulemaking

AGENCY: National Highway Traffic Safety Administration (NHTSA), DOT.

ACTION: Denial of Petition for Rulemaking.

SUMMARY: This document denies a petition for rulemaking submitted by Costa Technologies requesting that NHTSA initiate rulemaking to amend the Federal motor vehicle safety standard on glazing materials to include the words “to reduce or minimize the likelihood of personal injury from flying glazing material when the glazing material is broken,” and to require the fracture test to use specimens that would represent the glazing as it would be installed in the vehicle.

FOR FURTHER INFORMATION CONTACT: For non-legal issues: John Lee, Office of Crashworthiness Standards, NPS-11, National Highway Traffic Safety Administration, 400 Seventh Street, SW., Washington, DC 20590. Telephone: (202) 366-2264. Fax: (202) 366-4329.

For legal issues: Nancy Bell, Office of Chief Counsel, NCC-20, National Highway Traffic Administration, 400 Seventh Street, SW., Washington, DC 20590. Telephone: (202) 366-2992, Fax: (202) 366-3820.

SUPPLEMENTARY INFORMATION: On August 14, 2001, NHTSA received a petition from Costa Technologies (Costa) to initiate rulemaking to amend paragraph S2 of Federal motor vehicle safety standard (FMVSS) No. 205, “Glazing materials,” to (1) include the words “to reduce or minimize the likelihood of personal injury from flying glazing material when the glazing material is broken,” and to (2) include a requirement to use specimens representing the glazing as it would be installed in the vehicle for the fracture test. Costa did not identify any documented safety benefits that would result from making the requested amendments. NHTSA denies these two requests for the reasons discussed below.

Costa's first request stems from the concern that the stated purpose of FMVSS No. 205 does not expressly address injuries from flying glazing material. It is true that paragraph S2 of FMVSS No. 205 does not expressly mention such injuries: “[t]he purpose of this standard is to reduce injuries resulting from impact to glazing surfaces, to ensure a necessary degree of transparency in motor vehicle windows for driver visibility, and to minimize the possibility of occupants being thrown through the vehicle windows in collisions.” However, the Standard's requirements do address the issue. Currently, paragraph S5 of FMVSS No. 205 incorporates by reference the commercial standard American National Standard Safety Code for Safety Glazing Materials for Glazing Motor Vehicles Operating on Land Highways—Standard ANSI Z26.1-1977 (ANSI Z26.1-1977) as supplemented by Z26.1a-1980 (hereinafter referred to as “ANS Z26”). In ANS Z26, Section 5.7 “Fracture, Test No. 7” limits the size of individual glass fragments that form as a result of impact to a glazing surface. Requiring automotive glazing materials to meet this requirement has the effect of minimizing the size of individual glazing fragments that can form in a real world impact event. Consequently, the risk of two types of injuries is reduced: (1) Contact injuries with sharp shards remaining in the window casing as a result of glazing fracture, and (2) risk of lacerative or puncture type injuries that may result from flying glazing fragments. Both of these types of injuries are injuries that could result from “impacts to glazing surfaces”, as specified in the purpose of FMVSS No. 205. Therefore, the current purpose of FMVSS No. 205, “* * * to reduce injuries resulting from impact to glazing surfaces* * *” addresses the reduction of an occupant's risk of injuries from flying glazing and does not require clarification or modification.

Second, Costa requested that FMVSS No. 205 be amended to specify that the specimens to be used for Fracture Test No. 7 of ANS Z26 “represent the glazing as it would be installed in the vehicle.” FMVSS No. 205 does not require the fracture test to be conducted with the electrical terminals attached to the glazing material's conductors and soldered by processes that represent the manufacturer's production and rework processes. Costa was concerned that the heating and cooling due to the soldering process would cause localized annealing of the safety tempered glass, causing the individual glass fragments to be larger than 4.25 g (0.15 oz.). NHTSA agrees that temperature effects from heating and cooling can cause localized annealing and is addressing this issue in a current rulemaking.

NHTSA published a Notice of Proposed Rulemaking (NPRM) on August 4, 1999 (64 FR 42330), to amend FMVSS No. 205 so that it incorporates by reference the October 1996 version of ANS Z26, the industry standard on motor vehicle glazing. Currently, the Federal standard incorporates the 1977 version. Section 5.7 “Fracture, Test 7” of the October 1996 version requires that no individual glass fragment weigh more than 4.25 g (0.15 oz.) as in the current ANS Z26. However, it further requires that specimens: (1) Be selected from a range of glazing that a manufacturer produces or plans to produce; and (2) be of the most difficult part or pattern designation within the model number. Further, in selecting the specimens, thickness, color and conductors must be considered. Therefore, manufacturers would still be required to certify that glazing materials with conductors that may have localized annealing from a heating/cooling process would not produce any individual glass fragment weighing more than 4.25 g (0.15 oz.) in a fracture test. A final decision on that rulemaking is expected soon.

For the reasons discussed above, we are denying Costa's petition for rulemaking.

Authority: 49 U.S.C. 30162; delegations of authority at 49 CFR 1.50 and 49 CFR 501.8.

Issued on: August 2, 2002.
Stephen R. Kratzke,
Associate Administrator for Safety Performance Standards.

[FR Doc. 02-20369 Filed 8-9-02; 8:45 am]

BILLING CODE 4910-59-P